DEPARTMENT OF JUSTICE

Antitrust Division

Notice Pursuant to the National Cooperative Research and Production Act of 1993—Medical CBRN Defense Consortium

Notice is hereby given that, on July 2, 2024, pursuant to section 6(a) of the National Cooperative Research and Production Act of 1993, 15 U.S.C. 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances. Specifically, Alamgir Research Inc DBA ARIScience, Wayland, MA; American Additive Manufacturing LLC, Horsham, PA; Amyris Inc, Emeryville, CA; Arnasi 701 LLC, Woburn, MA; Columbus Nanoworks, Columbus, OH; Genetic Networks LLC, Miami Beach, FL; Radiation Monitoring Devices Inc, Watertown, MA; and Repurposed Therapeutics Inc, Saint Louis, MO, have been added as parties to this venture.

Also, Clarifia Inc, New York, NY; Conductive Technologies Inc, York, PA; Government Scientific Source, Reston, VA; Kleo Pharmaceuticals, New Haven, CT; Locus Biosciences, Morrisville, NC; Pertexa Healthcare Technologies, Ridgecrest, CA; SX2 Technologies LLC, Port Washington, WI; and Trauma Insight LLC dba LumaBridge LLC, San Antonio, TX, have withdrawn as parties to this venture.

No other changes have been made in either the membership or planned activity of the group research project. Membership in this group research project remains open, and MCDC intends to file additional written notifications disclosing all changes in membership.

On November 13, 2015, MCDC filed its original notification pursuant to section 6(a) of the Act. The Department of Justice published a notice in the Federal Register pursuant to section 6(b) of the Act on January 6, 2016 (81 FR 513).

The last notification was filed with the Department on April 2, 2024. A notice was published in the Federal Register pursuant to section 6(b) of the Act on June 21, 2024 (89 FR 52096).

Suzanne Morris,
Deputy Director Civil Enforcement Operations, Antitrust Division.

[FR Doc. 2024-22068 Filed 9-25-24; 8:45 am]

BILLING CODE P